FEDERAL MARITIME COMMISSION

Notice of Agreement Filed

The Commission hereby gives notice of the filing of the following agreement under the Shipping Act of 1984. Interested parties may submit comments on the agreement to the Secretary, Federal Maritime Commission, Washington, DC 20573, within ten days of the date this notice appears in the Federal Register. Copies of the agreement are available through the Commission's Web site (www.fmc.gov) or by contacting the Office of Agreements at (202) 523-5793 or tradeanalysis@fmc.gov.

Agreement No.: 012125-001.

Title: Maersk/Evergreen Slot Exchange Agreement.

Parties: A.P. Moller-Maersk A/S and Evergreen Line Joint Service Agreement.

Filing Parties: Wayne Rohde, Esq.; Cozen O'Connor; 1627 I Street NW.; Suite 1100; Washington, DC 20006.

Synopsis: The amendment adds China to the geographic scope of the Agreement.

By Order of the Federal Maritime Commission.
Dated: July 27, 2012.
Karen V. Gregory,
Secretary.

[FR Doc. 2012-18803 Filed 7-31-12; 8:45 am]

BILLING CODE 6730-01-P